ENVIRONMENTAL PROTECTION AGENCY

[EPA-CERCLA Docket No. V-W-19-C-003; FRL-9989-94-Region 5]

Proposed CERCLA Administrative Settlement Agreement and Order on Consent; City of Kalamazoo, Michigan, and City of Kalamazoo Brownfields Redevelopment Authority; Allied Paper Portage Creek/Kalamazoo River Superfund Site, Operable Unit 1, Panelyte Property, Kalamazoo Michigan

AGENCY: Environmental Protection Agency.

ACTION: Notice of proposed Settlement Agreement and request for public comment.

SUMMARY: The Environmental Protection Agency (EPA) hereby gives notice of a proposed Administrative Settlement Agreement and Order on Consent (Settlement) pertaining to a 22-acre parcel of land (the Panelyte Property) located in Kalamazoo, Michigan. The Panelyte Property is located adjacent to, and is partially contaminated by waste from, Operable Unit 1 (OU1) of the Allied Paper/Portage Creek/Kalamazoo River Superfund Site. EPA invites public comment on the Settlement for thirty (30) days following publication of this notice. The Settlement requires the City of Kalamazoo and the City of Kalamazoo Brownfield Redevelopment Authority to conduct certain short-term and long-term response actions at the Panelyte Property and at OU1. These response actions include: Cooperation with periodic reviews; compliance with and performance of activities related to institutional controls; assistance with community relations activities; property clearance activities; oversight of traffic management issues; and to cooperate with OU1 remedy component placement on the Panelyte Property and the performance of inspections of such remedy components.

DATES: Comments must be post marked or received on or before March 28, 2019.

ADDRESSES: The proposed Settlement and related site documents can be viewed at the Superfund Records Center, (SRC-7J), United States Environmental Protection Agency, Region 5, 77 W Jackson Blvd., Chicago, IL 60604, (312) 886-4465. Electronic copies online will be found at www.epa.gov/superfund/allied-paper-kalamazoo.

FOR FURTHER INFORMATION CONTACT: Further information or a copy of the Settlement may be obtained from Diane Russell, Community Involvement Coordinator, U.S. EPA Region 5 Superfund Division Community Information Office, 1300 Bluff St., Suite 140, Flint, MI 48504. Telephone: 989-395-3493. Email: russell.diane@epa.gov.

SUPPLEMENTARY INFORMATION:

I. Background Information

In accordance with Section 122(i) of the Comprehensive Environmental Response, Compensation, and Liability Act, as amended (“CERCLA”), 42 U.S.C. 9622(i), notice is hereby given of a proposed Settlement pertaining to the Panelyte Property, a 22-acre parcel of land located in Kalamazoo, Michigan. The Panelyte Property is located adjacent to, and is partially contaminated by hazardous substances from, Operable Unit 1 (OU1) of the Allied Paper Portage Creek/Kalamazoo River Superfund Site. The Settlement is with the following settling parties: The City of Kalamazoo, Michigan and the City of Kalamazoo Brownfield Redevelopment Authority. The Settlement requires the settling parties to perform certain work and to comply with property requirements. The settling parties will cooperate with EPA in potentially placing components of the EPA-selected remedy for OU1 on the Panelyte Property. The settling parties will cooperate with EPA's periodic reviews of the OU1 remedy, including the compilation, reporting, and the review and analysis of data, reports, and other information in their possession. The settling parties will also place and comply with any necessary institutional controls on properties they presently control, will assist EPA in obtaining institutional controls on other properties, and will assist EPA with future review and maintenance of the institutional controls. The settling parties will assist EPA in performing community relation activities related to the Panelyte Property and OU1, will assist in performing property clearing activities (trees, brush, undergrowth) at the Panelyte Property related to OU1 remedy components, and will perform inspections of OU1 remedy components placed on the Panelyte Property. The settling parties shall prepare and oversee implementation of the traffic management plan related to construction activities under the OU1 remedy.

The Settlement includes a covenant by the United States not to sue the settling parties, pursuant to Sections 106 and Section 107(a) of CERCLA, 42 U.S.C. 106 and 107(a).

II. Opportunity To Comment

A. General Information

For thirty (30) days following the date of publication of this notice, the Agency will receive written comments relating to the Settlement. The Agency will consider all comments received and may modify or withdraw its consent to the Settlement if comments received disclose facts or considerations which indicate that the Settlement is inappropriate, improper, or inadequate.

B. Where do I send my comments or view responses?

Your comments should be mailed to Diane Russell, Community Involvement Coordinator, U.S. EPA Region 5 Superfund Division Community Information Office, 1300 Bluff St., Suite 140, Flint, MI 48504. Telephone: 989-395-3493. Email: russell.diane@epa.gov. Be sure to label the comments with the Docket Number at the top of this notice and/or the property name. The Agency's response to any comments received will be available for public inspection at the Superfund Records Center.

C. What should I consider as I prepare my comments for EPA?

1. Submitting Confidential Business Information (CBI). Do not submit ANY information you think or know is CBI to EPA through an agency website or via email. Clearly mark on your written comments all the information that you claim to be CBI. If you mail EPA your comments on a disk or CD-ROM (CD), mark the outside of the CD as CBI and then identify electronically within the CD the specific information that is claimed as CBI. In addition to one complete version of your comments that includes all the information claimed as CBI, you must submit for inclusion in the public docket a second copy of your comments that does not contain the information claimed as CBI. Information marked as CBI will not be disclosed except in accordance with procedures set forth in 40 CFR part 2.

2. Tips for Preparing Your Comments. When submitting comments, remember to:

• Identify the subject of your comments by the docket number and the site name in the title of this notice or the Federal Register publication date and page number.

• Follow directions—the agency may ask you to respond to specific questions or organize comments by referencing a Code of Federal Regulations (CFR) part or section number.

• Explain why you agree or disagree with the terms of the Settlement; suggest alternatives and substitute language for your requested changes.

• Describe any assumptions and provide any technical information and/or data that you used.

• If you estimate potential costs or burdens, explain how you arrived at your estimate in sufficient detail to allow for it to be reproduced.

• Provide specific examples to illustrate your concerns and suggest alternatives.

• Explain your views as clearly as possible, avoiding the use of profanity or personal threats.

• Make sure to submit your comments by the identified comment period deadline.

Dated: February 7, 2019.
Thomas R. Short,
Acting Director, Superfund Division.

[FR Doc. 2019-03291 Filed 2-25-19; 8:45 am]

BILLING CODE 6560-50-P